DEPARTMENT OF COMMERCE

[I.D. 011701A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Fisheries Certificate of Origin.

Form Number(s): NOAA Form 370.

OMB Approval Number: 0648-0335.

Type of Request: Regular submission.

Burden Hours: 1,033.

Number of Respondents: 350.

Average Hours Per Response: 20 minutes for a processor response, 5 minutes for a Captain’s statement.

Needs and Uses: Information required by International Dolphin Conservation Program Act (IDCPA), amendments to the Marine Mammal Protection Act (MMPA), is needed to document the dolphin safe status of tuna import shipments and domestic deliveries of tuna by U.S.-flag purse seine fishing vessels; verify that import shipments of fish were not harvested by large-scale, high seas driftnets; and verify that tuna was not harvested by an embargoed nation or one that is otherwise prohibited from exporting tuna to the United States. Forms are submitted by importers, processors, and/or purse seine vessel operators.

Affected Public: Business and other for-profit organizations.

Frequency: On occasion.

Respondent's Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 12, 2001
Madeleine Clayton,
Departmental Forms Clearance Officer, Office of the Chief Information Officer.

[FR Doc. 01-1845 Filed 1-19-01; 8:45am]

BILLING CODE 3510-22-S